DEPARTMENT OF COMMERCE

International Trade Administration

Whitehead Institute for Biomedical Research, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 03-048. Applicant: Whitehead Institute for Biomedical Research, Cambridge, MA 02142. Instrument: Electron Microscope, Model JEM-2200FS. Manufacturer: JEOL Ltd., Japan. Intended Use: See notice at 68 FR 61189, October 27, 2003. Order Date: May 17, 1999.

Docket Number: 03-049. Applicant: National Institutes of Health, Bethesda, MD 20892-8008. Instrument: Electron Microscope, Model Tecnai G² Polara. Manufacturer: FEI Company, The Netherlands. Intended Use: See notice at 68 FR 61189, October 27, 2003. Order Date: June 18, 2003.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States either at the time of order of each instrument OR at the time of receipt of application by the U.S. Customs Service.

Gerald A. Zerdy,
Program Manager, Statutory Import Programs Staff.

[FR Doc. 03-30901 Filed 12-12-03; 8:45 am]

BILLING CODE 3510-DS-P